DEPARTMENT OF TRANSPORTATION

Federal Aviation Administration

14 CFR Part 39

[Docket No. FAA-2005-22917; Directorate Identifier 2005-NM-157-AD; Amendment 39-14456; AD 2006-02-04]

RIN 2120-AA64

Airworthiness Directives; Bombardier Model CL-600-1A11 (CL-600), CL-600-2A12 (CL-601), and CL-600-2B16 (CL-601-3A, CL-601-3R, and CL-604) Airplanes

AGENCY: Federal Aviation Administration (FAA), Department of Transportation (DOT).

ACTION: Final rule.

SUMMARY: The FAA is adopting a new airworthiness directive (AD) for certain Bombardier Model CL-600-1A11 (CL-600), CL-600-2A12 (CL-601), and CL-600-2B16 (CL-601-3A, CL-601-3R, & CL-604) airplanes. This AD requires modifying the rudder balance spring assembly by installing a new adjustable balance spring, and rigging the assembly to suit the rudder of each airplane. This AD results from production inspections that showed that the spring assembly that controls rudder balance may not have the correct pre-load on some airplanes. We are issuing this AD to prevent uncommanded yaw movements and consequent reduced controllability of the airplane.

DATES: This AD becomes effective February 24, 2006.

The Director of the Federal Register approved the incorporation by reference of certain publications listed in the AD as of February 24, 2006.

ADDRESSES: You may examine the AD docket on the Internet at http://dms.dot.gov or in person at the Docket Management Facility, U.S. Department of Transportation, 400 Seventh Street, SW., Nassif Building, room PL-401, Washington, DC.

Contact Bombardier, Inc., Canadair, Aerospace Group, P.O. Box 6087, Station Centre-ville, Montreal, Quebec H3C 3G9, Canada, for service information identified in this AD.

FOR FURTHER INFORMATION CONTACT: Daniel Parrillo, Aerospace Engineer, Systems and Flight Test Branch, ANE-172, FAA, New York Aircraft Certification Office, 1600 Stewart Avenue, Suite 410, Westbury, New York 11590; telephone (516) 228-7305; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model CL-600-1A11 (CL-600), CL-600-2A12 (CL-601), and CL-600-2B16 (CL-601-3A, CL-601-3R, and CL-604) airplanes. That NPRM was published in the Federal Register on November 10, 2005 (70 FR 68377). That NPRM proposed to require modifying the rudder balance spring assembly by installing a new adjustable balance spring, and rigging the assembly to suit the rudder of each airplane.

Comments

We provided the public the opportunity to participate in the development of this AD. We received no comments on the NPRM or on the determination of the cost to the public.

Explanation of Change to Related Information

We have revised paragraph (k) of this AD to include reference to Canadian airworthiness directive CF-2005-21R1, dated November 23, 2005, which was issued to revise the applicability of the affected airplanes. This change was reflected in the applicability of the proposed AD.

Conclusion

We have carefully reviewed the available data and determined that air safety and the public interest require adopting the AD with the change described previously. We have determined that this change will neither increase the economic burden on any operator nor increase the scope of the AD.

Costs of Compliance

This AD will affect about 501 airplanes of U.S. registry. The required actions will take about 12 work hours per airplane, at an average labor rate of $65 per work hour. Required parts will cost about $1,749 per airplane. Based on these figures, the estimated cost of the AD for U.S. operators is $1,267,029, or $2,529 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-02-04 Bombardier, Inc. (Formerly Canadair): Amendment 39-14456. Docket No. FAA-2005-22917; Directorate Identifier 2005-NM-157-AD.

Effective Date

(a) This AD becomes effective February 24, 2006.

Affected ADs

(b) None.

Applicability

(c) This AD applies to Bombardier Model CL-600-1A11 (CL-600), CL-600-2A12 (CL-601), and CL-600-2B16 (CL-601-3A, CL-601-3R, and CL-604) airplanes, certificated in any category; as identified in Table 1 of this AD.

Table 1.—Affected Airplanes by Serial Number
Bombardier airplane model | Affected serial numbers
CL-600-1A11 (CL-600) | 1004 through 1085 inclusive.
CL-600-2A12 (CL-601) | 3001 through 3066 inclusive.
CL-600-2B16 (CL-601-3A and CL-601-3R) | 5001 through 5194 inclusive.
CL-600-2B16 (CL-604) | 5301 through 5564 inclusive.

Unsafe Condition

(d) This AD results from production inspections that showed that the spring assembly that controls rudder balance may not have the correct pre-load on some airplanes. We are issuing this AD to prevent uncommanded yaw movements and consequent reduced controllability of the airplane.

Compliance

(e) You are responsible for having the actions required by this AD performed within the compliance times specified, unless the actions have already been done.

Service Bulletin Reference

(f) The term “service bulletin,” as used in this AD, means the Accomplishment Instructions of the applicable service bulletin in Table 2 of this AD.

Table 2.—Service Bulletins
Bombardier airplane model | Bombardier service bulletin
CL-600-1A11 (CL-600) | 600-0714, including Appendix 1 and excluding Appendix 2, dated April 4, 2003.
CL-600-2A12 (CL-601), and CL-600-2B16 (CL-601-3A and CL-601-3R) | (601-0549, including Appendix 1 and excluding Appendix 2, dated April 4, 2003.
CL-600-2B16 (CL-604) | 604-27-013, including Appendix 1 and excluding Appendix 2, dated April 4, 2003.

Modification and Rigging

(g) Within 12 months after the effective date of this AD: Modify and rig the adjustable rudder balance spring assembly for the rudder control surface, in accordance with the Accomplishment Instructions of the applicable service bulletin specified in Table 2 of this AD. Where the service bulletin specifies contacting Bombardier for instructions on making certain adjustments: Before further flight, adjust according to a method approved by the Manager, New York Aircraft Certification Office (ACO), FAA; or Transport Canada Civil Aviation (TCCA) (or its delegated agent).

No Reporting Required

(h) Although the service bulletins referenced in this AD specify to submit certain information to the manufacturer, this AD does not include that requirement.

Parts Installation

(i) After the effective date of this AD, no person may install on any airplane a rudder balance spring assembly unless it has been modified and rigged in accordance with paragraph (g) of this AD.

Alternative Methods of Compliance (AMOCs)

(j)(1) The Manager, New York ACO, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Canadian airworthiness directives CF-2005-21, dated June 23, 2005, and CF-2005-21R1, dated November 23, 2005, also address the subject of this AD.

Material Incorporated by Reference

(1) You must use the service documents identified in Table 3 of this AD to perform the actions that are required by this AD, unless the AD specifies otherwise. The Director of the Federal Register approved the incorporation by reference of these documents in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 3.—Material Incorporated by Reference
Bombardier service bulletin | Date
600-0714, including Appendix 1 and excluding Appendix 2 | April 4, 2003.
601-0549, including Appendix 1 and excluding Appendix 2 | April 4, 2003.
604-27-013, including Appendix 1 and excluding Appendix 2 | April 4, 2003.

Issued in Renton, Washington, on January 10, 2006.
Ali Bahrami,
Manager, Transport Airplane Directorate, Aircraft Certification Service.

[FR Doc. 06-467 Filed 1-19-06; 8:45 am]

BILLING CODE 4910-13-P